CORPORATION FOR NATIONAL AND COMMUNITY SERVICE

45 CFR Part 2507

RIN 3045-AA59

Procedures for Disclosure of Records Under the Freedom of Information Act; Correction

AGENCY: Corporation for National and Community Service.

ACTION: Final rule; correction.

SUMMARY: The Corporation for National and Community Service (operating as AmeriCorps) is correcting a final rule that appeared in the Federal Register on September 9, 2022. The document finalized updates to AmeriCorps regulations for processing requests for records under the Freedom of Information Act (FOIA) to reflect changes made in the FOIA Improvement Act of 2016 and to make the regulations more user friendly through plain language.

DATES: Effective October 11, 2022.

FOR FURTHER INFORMATION CONTACT: Stephanie Soper, AmeriCorps FOIA Officer, at 202-606-6747 or ssoper@cns.gov.

SUPPLEMENTARY INFORMATION: In FR Doc. 2022-19185 appearing on page 55305 in the Federal Register of Friday, September 9, 2022, the following correction is made:

§ 2507.14 [Corrected]

1. On page 55314, in the second column, in § 2507.14, the second paragraph (f) is redesignated as paragraph (g).

Fernando Laguarda,
General Counsel.

[FR Doc. 2022-20387 Filed 9-20-22; 8:45 am]

BILLING CODE 6050-28-P